DEPARTMENT OF TRANSPORTATION

National Highway Traffic Safety Administration

[Docket No. NHTSA-2026-0529]

Agency Information Collection Activities; Notice and Request for Comment; Incident Reporting for Automated Driving Systems (ADS) and Level 2 Advanced Driver Assistance Systems (ADAS)

AGENCY: National Highway Traffic Safety Administration (NHTSA), Department of Transportation (DOT).

ACTION: Notice and request for comments on a request for extension of a currently approved information collection with modifications.

SUMMARY: NHTSA invites public comments about our intention to request approval from the Office of Management and Budget (OMB) for an extension of a currently approved information collection with modifications. Before a Federal agency can collect certain information from the public, it must receive approval from OMB. Under procedures established by the Paperwork Reduction Act of 1995, before seeking OMB approval, Federal agencies must solicit public comment on proposed collections of information, including extensions and reinstatements of previously approved collections. This document describes NHTSA's information collection for incident reporting requirements for Automated Driving Systems (ADS) and Level 2 Advanced Driver Assistance Systems (ADAS). NHTSA previously requested and received a three-year approval of this information collection. NHTSA now requests OMB's approval for a three-year extension of this currently approved information collection with modifications. These modifications streamlined reporting requirements to reduce burdens compared to the prior version of this information collection and sharpening the focus on safety critical information.

DATES: Comments must be submitted on or before May 4, 2026.

ADDRESSES: You may submit comments identified by the Docket No. NHTSA-2021-0070 through any of the following methods:

• Electronic Submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays. To be sure someone is there to help you, please call (202) 366-9826 or (202) 366-9317 before coming.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Michael Kuppersmith, Office of Chief Counsel, at michael.kuppersmith@dot.gov, Telephone: (202) 366-9957; Mailing address: U.S. Department of Transportation, 1200 New Jersey Avenue SE, Washington, DC 20590.

SUPPLEMENTARY INFORMATION: Under the Paperwork Reduction Act of 1995 (44 U.S.C. 3501 et seq.), before an agency submits a proposed collection of information to OMB for approval (including a request for an extension of a currently approved collection), it must first publish a document in the Federal Register providing a 60-day comment period and otherwise consult with members of the public and affected agencies concerning each proposed collection of information. The OMB has promulgated regulations describing what must be included in such a document. Under OMB's regulation (5 CFR 1320.8(d)), an agency must ask for public comment on the following: (a) Whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g., permitting electronic submission of responses. In compliance with these requirements, NHTSA asks for public comments on the following proposed extension, for which the agency is seeking approval from OMB, of a currently approved collection of information with modifications.

Title: Incident Reporting for Automated Driving Systems (ADS) and Level 2 Advanced Driver Assistance Systems (ADAS).

OMB Control Number: 2127-0754.

Form Number(s): Form 1612.

Type of Request: Approval of an extension of a currently approved collection of information with modifications.

Type of Review Requested: Regular.

Requested Expiration Date of Approval: 3 years from date of approval.

Summary of the Collection of Information: The currently approved information collection request (ICR) for which NHTSA intends to request an extension requires certain manufacturers of motor vehicles and equipment and operators of motor vehicles to submit incident reports for certain crashes involving ADS and Level 2 ADAS. These crash reporting obligations are set forth in NHTSA's Standing General Order 2021-01 (General Order), which requires those manufacturers and operators named in and served with the General Order to report crashes that meet specified criteria to NHTSA.¹

¹ A copy of the General Order is available on NHTSA's website at https://www.nhtsa.gov/laws-regulations/standing-general-order-crash-reporting.

Specifically, the General Order requires the named manufacturers and operators (the reporting entities) to submit reports if they receive notice of certain crashes involving an ADS or Level 2 ADAS equipped vehicle that occur on publicly accessible roads in the United States. To be reportable, the vehicle, the ADS, or the Level 2 ADAS must have been manufactured by the reporting entity or the vehicle must have been operated by an ADS reporting entity at the time of the crash, and the ADS or Level 2 ADAS must have been engaged at the time of or immediately before (≤30 seconds) the crash. The reporting obligations are limited to those entities served with the General Order. The General Order imposes no reporting obligations on any other companies and likewise imposes no reporting obligations on any individual consumers.

In the event of a reportable crash, the General Order requires the reporting entity to submit an incident report electronically to NHTSA. The required report includes basic information sufficient for NHTSA to identify those crashes warranting follow-up. Crashes involving ADS or Level 2 ADAS equipped vehicles that meet specified criteria must be reported within five calendar days after the reporting entity receives notice of the crash, and other crashes involving ADS equipped vehicles must be reported on a monthly basis. The reporting obligations in the General Order are specific to these crashes, which are a primary source of information regarding potential defects in ADS or Level 2 ADAS.

The agency has been receiving incident reports under its existing approval. Based on the agency's experience in reviewing these reports and on the public comments it has received previously, NHTSA has amended the General Order. These amendments streamlined the reporting requirements of prior versions of the General Order to reduce burdens and more efficiently collect actionable information. These amendments refined the focus of reporting on critical safety information while removing unnecessary and duplicative requirements. The specific requirements are detailed later in this notice. In general, they streamline the reporting requirements in several key ways: (1) making reports of the most severe types of crashes due within five days and reports of less severe crashes due monthly; (2) refining the scope of crashes that are reportable for ADS and ADAS, such as by adding a property damage threshold for less severe crashes involving ADS; (3) eliminating the requirement in prior versions of the General Order that multiple entities report the same crash, except in situations where entities have different information from one another; (4) eliminating requirements that entities must update reports at designated intervals even if no new information exists; (5) eliminating the requirement that entities submit reports to NHTSA each month even if they have no crashes to report for that month; and (6) streamlining the electronic form used for reporting by eliminating data elements that are not safety critical.

More specifically, under Request No. 1 of the General Order, a reporting entity must report any crash involving an ADS or Level 2 ADAS equipped vehicle that results in any individual being transported to a hospital for medical treatment, a fatality, an air bag deployment, or that involves a strike of a vulnerable road user. If the crash involved a subject vehicle equipped with an ADS, a reporting entity must also report any crash resulting in a vehicle tow-away. Under any of these circumstances, the reporting entity must submit a report within five days after the reporting entity receives notice of the crash. Under Request No. 3, reporting entities must submit an updated report if they receive notice of any materially new or materially different information for specified fields: VIN, engagement status, source, highest severity alleged, subject vehicle damage, subject vehicle pre-crash movement, air bags deployment status for any vehicle involved, data availability, and narrative. This updated report is due on the fifteenth day of the month following the month in which they received notice of the new or different information.

Separately, under Request No. 2 of the General Order, a reporting entity must report any crash involving an ADS equipped vehicle that does not meet the previous criteria but nonetheless involves property damage. These reports are due on the fifteenth day of the month after the reporting entity receives notice of the crash. Specifically, Request No. 2 requires reports for crashes in which the property damage is reasonably expected to exceed $1,000, the subject vehicle was the only vehicle involved in the crash, or the subject vehicle struck another vehicle or object (as opposed to being struck). The reports required under Request No. 2 and Request No. 3 utilize the same form and request the same information as the five-day reports required under Request No. 1.

This information collection provides NHTSA with information it needs to carry out its statutory mandate to protect the public against unreasonable risk of accidents occurring because of the design, construction, or performance of a motor vehicle, and against unreasonable risk of death or injury in an accident.

On March 6, 2023, OMB approved NHTSA's three-year extension of its information collection for the previous version of the General Order (OMB Control No. 2127-0754). NHTSA is publishing this document to seek an extension of this information collection with modifications.

NHTSA significantly reduced the burden of this information collection through its changes to streamline the General Order. Specifically, the changes eliminated some categories of burden addressed in the prior Paperwork Reduction Act analysis, saving 5,639 burden hours annually. For other categories, NHTSA significantly reduced the burdens by eliminating unnecessary and duplicative reporting requirements. NHTSA also expects reporting to be more efficient now that most of the reporting entities have more than five years of experience and established internal processes. With these changes, along with NHTSA's improved ability to estimate burdens after more than five years of reporting under the General Order, NHTSA now estimates an annual burden of 19,208 hours—a substantial reduction from the estimated burden associated with the prior versions of the General Order. NHTSA requests comment on these estimates.

Description of the Need for the Information and Proposed Use of the Information: Under the National Traffic and Motor Vehicle Safety Act, as amended (the Safety Act), 49 U.S.C. Chapter 301, NHTSA is charged with authority “to reduce traffic accidents and deaths and injuries resulting from traffic accidents.” To carry out this statutory mandate, NHTSA has broad information gathering authority, including authority to obtain information on vehicle crashes, potential defects related to motor vehicle safety, and compliance with legal requirements to timely identify and conduct recalls for safety defects. 49 U.S.C. 30166(e), (g), 30118-30120; 49 CFR part 510.

Both ADS and ADAS are “motor vehicle equipment” subject to the requirements of the Safety Act. Given the rapid evolution of these technologies and increasing testing of new technologies and features on publicly accessible roads, it is critical for NHTSA to exercise its oversight over potential safety defects in vehicles operating with ADS and Level 2 ADAS.

NHTSA uses the information to evaluate whether specific manufacturers (including manufacturers of prototype vehicles and equipment) are meeting their statutory obligations to ensure that their vehicles and equipment are free of defects that pose an unreasonable risk to motor vehicle safety or are recalled if such a safety defect is identified. NHTSA's oversight of potential safety defects in vehicles operating on publicly accessible roads using ADS or Level 2 ADAS requires that NHTSA have timely information on incidents involving those vehicles. In carrying out the Safety Act, NHTSA may “require, by general or special order, any person to file reports or answers to specific questions.” 49 U.S.C. 30166(g)(1)(A).

Affected Public: Vehicle and equipment manufacturers and operators of ADS or Level 2 ADAS equipped vehicles.

Estimated Number of Respondents: 110 entities.

Estimated Number of Annual Responses: 9,574 responses.

Frequency: Monthly and on occasion.

Estimated Total Annual Burden Hours: 19,208 hours.

To estimate the burden associated with this information collection, NHTSA separated the requirements of the General Order into seven components: (1) incident reports involving Level 2 ADAS that must be submitted within five days; (2) updates to incident reports involving Level 2 ADAS that must be submitted in the following month; (3) incident reports involving ADS that must be submitted within five days; (4) updates to incident reports involving ADS that must be submitted in the following month; (5) initial incident reports involving ADS that must be submitted in the following month; (6) training employees on the requirements; and (7) time to set up an account to submit the reports. The burden associated with categories (6) and (7) are one-time start-up burdens that will be incurred during the proposed extension only for new reporting entities that were added to the General Order during this period. For the approximately 114 reporting entities named in the previous General Order, this burden has already been and was accounted for under the currently approved information collection request.

The estimated number of respondents consists of the number of reporting entities. NHTSA estimates that there will be an average of 110 reporting entities during each year of the proposed extension. Currently, there are 106 reporting entities named in the General Order. NHTSA believes that additional reporting entities may be added to the General Order during the proposed extension as new companies enter the market and begin developing and manufacturing ADS and ADAS technology and vehicles equipped with these technologies. NHTSA also believes that some existing reporting entities may be removed from the General Order due to the cessation of operations or market consolidation.

Incident reports involving Level 2 ADAS that must be submitted within five days. To estimate the burden associated with submitting Level 2 ADAS crash reports, NHTSA first looked to the category of crashes that must be reported. As explained above, the General Order only requires reporting of Level 2 ADAS crashes when (1) the crash occurred on a publicly accessible road in the United States (including any of its territories); (2) the Level 2 ADAS was engaged at any time during the period from 30 seconds immediately prior to the commencement of the crash through the conclusion of the crash; and (3) the crash resulted in any individual being transported to a hospital for medical treatment, a fatality, an air bag deployment, or the strike of a vulnerable road user.² These crashes must be reported within five days. Based on the number of manufacturers that manufacture vehicles equipped with Level 2 ADAS systems in calendar year 2025, NHTSA estimates that it will receive responses from approximately 43 respondents reporting Level 2 ADAS crashes each year. Further, after evaluating information available to the agency regarding the number of Level 2 ADAS crashes and the number of vehicles equipped with Level 2 ADAS, NHTSA estimates that it will receive, on average, 3,704 Level 2 ADAS related crash reports each year. This estimate includes projections based on amended reporting criteria and increasing market penetration and consumer acceptance of partial automation technologies. NHTSA believes this is a high-end estimate and will refine it further after seeking public comment. NHTSA expects that the number of crash reports submitted by each respondent will vary significantly, with some respondents submitting many more reports than others. However, on average, NHTSA estimates that each respondent will submit, on average, 86 crash reports per year. NHTSA estimates that it will take respondents approximately 2 hours to compile and submit each crash report (Engineer: 1 hour; Engineering Manager: 20 minutes; Lawyer: 20 minutes; and Computer and Information Manager: 20 minutes). Therefore, NHTSA estimates the total annual burden hours for submitting Level 2 ADAS crash reports to be approximately 172 hours per respondent (2 hours × 86 crash reports) and approximately 7,396 hours for all respondents (172 hours × 43 respondents).

² A “vulnerable road user” is defined in the General Order to mean and include “any person who is not an occupant of a motor vehicle with more than three wheels. This definition includes, but is not limited to, pedestrians, persons traveling in wheelchairs, bicyclists, motorcyclists, and riders or occupants of other transport vehicles that are not motor vehicles, such as all-terrain vehicles and tractors.”

Updates to incident reports involving Level 2 ADAS that must be submitted in the following month. In addition to submitting information on certain Level 2 ADAS crashes within five days, reporting entities must also submit updated information, if any, by the fifteenth day in the following month. Based on NHTSA's experience with reports submitted so far, NHTSA estimates that for 9% of Level 2 ADAS crashes first reported in a five-day report, respondents may need to submit updated information. Therefore, NHTSA estimates that approximately 333 monthly reports will include updated crash information (3,704 Level 2 ADAS five-day crashes × 9%) or approximately eight updated crash reports for each of the 43 Level 2 ADAS respondents. NHTSA estimates that updating the updated crash reports will take approximately 2 hours per report. Therefore, NHTSA estimates that it will take each Level 2 ADAS respondent approximately 16 hours each year to submit Level 2 ADAS crash reports updates (2 hours × 8 crash reports) and approximately 688 hours for all Level 2 ADAS respondents (16 hours × 43 respondents).

Incident reports involving ADS that must be submitted within five days. To estimate the number of five-day ADS crash reports, NHTSA first looked to the category of crashes that must be reported. The requirements for when ADS crashes must be reported within five days are nearly the same as for Level 2 ADAS crashes, except ADS crashes involving a vehicle tow away are required to be reported. This difference accounts for the greater degree of oversight warranted for ADS-equipped vehicles, which allow the vehicle automation systems more extensive control authority over the Dynamic Driving Task (DDT). The General Order requires reporting ADS crashes when (1) the crash occurred on a publicly accessible road in the United States (including any of its territories); (2) the ADS was engaged at any time during the period from 30 seconds immediately prior to the commencement of the crash through the conclusion of the crash; and (3) the crash resulted in any individual being transported to a hospital for medical treatment, a fatality, an air bag deployment, vehicle tow away, or the strike of a vulnerable road user. These crashes must be reported within five days. Based on these criteria and crash reports submitted in prior versions of the General Order, NHTSA estimates that it will receive responses from 67 respondents reporting ADS crashes each year and expects that there will be approximately 5,425 ADS crashes in a year that manufacturers and operators will be required to report to NHTSA. Some of these crashes will be required to be submitted within five days, and the rest will be required to be submitted in the following month in a monthly report.

Based on NHTSA's review of crash reports already received under all versions of the General Order, NHTSA estimates that 2,810 ADS crash reports a year will be submitted within five days, or approximately 42 crash reports from each of the 67 respondents. NHTSA estimates that each ADS crash report will take 2 hours to complete and submit (Engineer: 1 hour; Engineering Manager: 20 minutes; Lawyer: 20 minutes; and Computer and Information Manager: 20 minutes). Therefore, NHTSA estimates the burden per respondent to be approximately 84 hours (42 crash reports × 2 hours) and approximately 5,628 hours for all respondents (84 hours × 67 respondents).

Updates to incident reports involving ADS that must be submitted in the following month. In addition to submitting information on certain ADS crashes within five days, manufacturers and operators must also submit updated information, if any, by the fifteenth day of the following month. NHTSA estimates that for 4% of ADS crashes first reported in a five-day report, respondents may need to submit updated information. Therefore, NHTSA estimates that approximately 112 monthly reports will include updated crash information (2,810 ADS five-day crashes × 4%), or approximately 2 reports from each of the 67 respondents. ADS typically utilize multiple sensors and cameras and tend to have relatively advanced data recording and telemetry capabilities. As a result, crashes involving vehicles where the ADS is performing the DDT can generally be reported with detail. NHTSA estimates that updating the crash reports will take approximately 2 hours per report. Therefore, NHTSA estimates that it will take each respondent approximately 4 hours each year to submit updated ADS crash reports (2 hours × 2 crash reports) and approximately 268 hours for all ADS respondents (4 hours × 67 respondents).

Initial incident reports involving ADS that must be submitted in the following month. This information collection requires ADS manufacturers and operators to submit reports of certain incidents—reportable incidents that do not meet any of the criteria for a five-day report—by the fifteenth day of the following month. To estimate the burden of these monthly reports, NHTSA considered the burden of reports of initial ADS crash reports that it has already received. NHTSA estimates there will be 67 ADS vehicle manufacturers and operators that will be required to submit monthly reports each year, for a total of approximately 2,615 monthly reports annually or approximately 39 reports per respondent.

NHTSA estimates that each monthly report submitted by an ADS manufacturer or operator will take 2 hours to submit. NHTSA estimates that there will be at least 67 ADS manufacturers and operators with some manufacturers producing both ADAS and ADS equipped vehicles. Therefore, NHTSA estimates that respondents will spend approximately 5,226 hours annually preparing and submitting monthly reports (67 ADS manufacturers and operators × 39 monthly reports × 2 hours).

Training employees on the requirements. In addition to the burden associated with preparing and submitting reports, any new reporting entities added to the General Order may also need to train employees on the reporting requirements. As explained above, the existing 106 reporting entities named in the General Order will not incur this burden during the requested extension. NHTSA estimates that there will be an average of 4 new reporting entities added to the General Order each year during the proposed extension, that an average of 4 of these new reporting entities will be ADS manufacturers or operators and that an average of 0 of these new reporting entities will be Level 2 ADAS manufacturers. However, NHTSA expects that ADS manufacturers and operators normally monitor all crashes and, therefore, will not need to train personnel on how to respond to this new information collection. Accordingly, NHTSA does not believe this category will measurably increase the burden.

Time to set up an account to submit the reports. NHTSA also estimates that new responding entities added to the General Order during the proposed extension period will need to set up a new account with NHTSA to allow them to submit reports. NHTSA estimates that each of the estimated average of 4 responding entities added to the General Order annually need to set up new accounts with NHTSA. NHTSA estimates that setting up an account will take 0.5 hours. Therefore, NHTSA estimates the total annual burden to be 2 hours.

NHTSA estimates the total annual burden hours for the seven components of this ICR to be 19,208 hours (7,396 hours for initial five-day Level 2 ADAS reports, 688 hours for updated Level 2 ADAS reports, 5,628 hours for initial five-day ADS reports, 268 hours for updated ADS reports, 5,226 hours for initial ADS monthly reports, 0 hours for training, and 2 hours for setting up new accounts), a reduction from the 31,319 hours under the previously approved collection.

To calculate the labor cost associated with preparing and submitting crash reports and reports, training, and setting up new accounts, NHTSA looked at wage estimates for the type of personnel involved with these activities. NHTSA estimates the total labor costs associated with these burden hours by looking at the average wage for architectural and engineering managers in the motor vehicle manufacturing industry (Architectural and Engineering Managers, Standard Occupational Classification #11-9041), Engineers (17-2000), Lawyers (23-1011), and Computer and Information System Managers (11-3021). NHTSA estimates the total labor costs associated with these burden hours by looking at the seventy-fifth percentile wage for architectural and engineering managers, computer and information systems managers, and engineers in the motor vehicle manufacturing industry and the seventy-fifth percentile wage for lawyers.³ The Bureau of Labor Statistics estimates that private industry workers' wages represent 70.2% of total labor compensation costs.⁴ Therefore, NHTSA has weighted the wages accordingly, as shown in Table 1, and, based on the estimates of each role's time spent per report, calculates the average weighted hourly wage to be approximately $126.29.

³ See May 2024 National Industry-Specific Occupational Employment and Wage Estimates, NAICS 336100—Motor Vehicle Manufacturing, available at https://www.bls.gov/oes/current/naics4_336100.htm; May 2024 National Occupational Employment and Wage Estimates, available at https://www.bls.gov/oes/current/oes_nat.htm. Note that the seventy-fifth percentile wage for lawyers and computer and information systems managers were not provided by the Bureau of Labor Statistics because they are equal to or greater than $115 per hour. Without additional information, NHTSA used $115 per hour for those wages in its calculations.

⁴ See Table 1. Employer Costs for Employee Compensation by ownership (June 2025), available at https://www.bls./.release/ecec.t01.htm.

Table 1—Labor Costs
Labor category | Wage | Hourly labor cost | Estimated time spent per crash report (minutes)
Computer and Information System Managers (11-13021) in the Motor Vehicle Manufacturing Industry (75th percentile) | $115.00 | $163.82 | 20
Architectural and Engineering Managers (11-9041) in the Motor Vehicle Manufacturing Industry (75th percentile) | 104.50 | 148.86 | 20
Engineers (17-2000) in the Motor Vehicle Manufacturing Industry (75th percentile) | 65.81 | 93.75 | 60
Lawyers (23-1011) in the Motor Vehicle Manufacturing Industry (75th percentile) | 115.00 | 163.82 | 20

Accordingly, NHTSA estimates the total labor cost associated with the estimated 19,208 annual burden hours to be approximately $2,425,778.32.

Table 2 provides a summary of the estimated burden hours and labor costs associated with each submission, resulting in a modestly different estimated annual labor cost due to rounding and excluding the time spent setting up new accounts.

Table 2—Estimated Burden Hours and Labor Costs
Category of claims | Annual average of incident submissions | Average time to process each report (hours) | Weighted hourly rate | Estimated labor cost per submission | Estimated annual labor cost
Level 2 ADAS 5-day reports, initial | 3,704 | 2 | $126.29 | $252.58 | $935,556.32
Level 2 ADAS 5-day reports, monthly update | 333 | 2 | 126.29 | 252.58 | 84,109.14
ADS 5-day reports, initial | 2,810 | 2 | 126.29 | 252.58 | 709,749.80
ADS 5-day reports, monthly update | 112 | 2 | 126.29 | 252.58 | 28,288.96
ADS monthly reports, initial | 2,615 | 2 | 126.29 | 252.58 | 660,496.70
Totals | 9,574 |  |  |  | 2,418,200.92

Estimated Total Annual Burden Cost: NHTSA is not aware of any additional costs respondents will incur nor does NHTSA have a basis for estimating any such costs without additional information. NHTSA believes respondents will be able to comply with requirements by only incurring labor costs associated with the burden hours.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology; (e) ways in which the information collection could be further streamlined to reduce even more burdens while ensuring that crash reporting enables NHTSA to identify potential defects with ADS and ADAS timely.

Authority: The Paperwork Reduction Act of 1995; 44 U.S.C. Chapter 35, as amended; 49 CFR 1.49; and DOT Order 1351.29A.

Peter Simshauser,
Chief Counsel.

[FR Doc. 2026-04240 Filed 3-3-26; 8:45 am]

BILLING CODE 4910-59-P